DEPARTMENT OF HOMELAND SECURITY

Transportation Security Administration

Intent To Request Extension From OMB of One Current Public Collection of Information: Law Enforcement Officer Flying Armed Training

AGENCY: Transportation Security Administration, DHS.

ACTION: 60-Day notice.

SUMMARY: The Transportation Security Administration (TSA) invites public comment on one currently approved Information Collection Request (ICR), Office of Management and Budget (OMB) control number 1652-0034, abstracted below that we will submit to OMB for an extension in compliance with the Paperwork Reduction Act (PRA). The ICR describes the nature of the information collection and its expected burden. The collection involves the Federal Air Marshal Service maintenance of a database of all Federal, State, and local law enforcement agencies that have received the Law Enforcement Officer (LEO) Flying Armed Training course.

DATES: Send your comments by November 4, 2024.

ADDRESSES: Comments may be emailed to TSAPRA@tsa.dhs.gov or delivered to the TSA PRA Officer, Information Technology (IT), TSA-11, Transportation Security Administration, 6595 Springfield Center Drive, Springfield, VA 20598-6011.

FOR FURTHER INFORMATION CONTACT: Christina A. Walsh at the above address, or by telephone (571) 227-2062.

SUPPLEMENTARY INFORMATION:

Comments Invited

In accordance with the Paperwork Reduction Act of 1995 (44 U.S.C. 3501 et seq.), an agency may not conduct or sponsor, and a person is not required to respond to, a collection of information unless it displays a valid OMB control number. The ICR documentation will be available at https://www.reginfo.gov upon its submission to OMB. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0034; Law Enforcement Officer Flying Armed Training. TSA is requesting approval for the extension of the collection of this information to comply with 49 CFR 1544.219, which requires Federal LEOs; full-time territorial, tribal, municipal, county, or state LEOs who are direct employees of government agencies; and authorized railroad police officers to complete the LEO Flying Armed Training course in order to fly armed. The course is a non-tactical overview of the conditions under which an officer may fly armed and the required conduct and duties of the LEO while flying armed. This information collection permits TSA to collect identifying information from law enforcement agencies requesting the LEO Flying Armed Training course materials.

The process begins when a representative from a law enforcement agency electronically requests the LEO Flying Armed Training course material via the TSA Flying While Armed website (https://www.tsa.gov/travel/law-enforcement). The fillable form, which is submitted to TSA electronically, must contain: full name of the officer, title, phone number, email address, employing department, work address, supervisor's name, supervisor's title, supervisor's contact information, the agency's originating agency identifier, an affirmation that the officer meets the requirements set forth in 49 CFR 1544.219, and a brief narrative detailing the agency's operational need for its officers to fly armed. Once the fillable form is completed, TSA receives a notification via email. TSA vets the request to ensure that all of the required information has been submitted and that the agency has a current operational need for its officers to fly armed. If TSA determines that the requesting agency's officer meets the standard set forth in 49 CFR 1544.219, TSA will electronically send a non-disclosure agreement (NDA) to the requesting agency for the agency's LEO Flying Armed instructor to sign. Once TSA receives the signed NDA, TSA will electronically send the LEO Flying Armed Training course materials to the requesting agency. TSA keeps an electronic record of each agency that has received LEO Flying Armed Training course materials, including a point of contact for that agency. If an issue arises during the screening and verification process regarding the authenticity of an agency that requests training materials, TSA will not supply training materials until that issue has either been confirmed or resolved, and a record of such determination regarding authenticity is maintained.

Upon completion of the training, a LEO who has been authorized by his or her agency to fly armed presents his or her credentials and other required information at the airport in order to fly armed. A Transportation Security Officer verifies all pertinent information onsite. Based on current data, TSA estimates there are approximately 2,000 respondents on an annual basis. Each agency spends approximately 5 minutes to provide the information TSA needs to confirm the law enforcement agency is eligible to receive the training. This amounts to 2,000 agencies multiplied by 5 minutes, which equals 166.6 hours (2,000 agencies × 5 min = 10,000 min [166.6 hrs.]), for a total annual hour burden of 167 hours.

Dated: August 29, 2024.
Christina A. Walsh,
TSA Paperwork Reduction Act Officer, Information Technology.

[FR Doc. 2024-19827 Filed 9-3-24; 8:45 am]

BILLING CODE 9110-05-P